NUCLEAR REGULATORY COMMISSION

[Docket Nos. 50-280 and 50-281; NRC-2016-0105]

Virginia Electric Power Company; Surry Power Station, Unit Nos. 1 and 2; Use of AREVA's M5® Alloy Fuel Rod Cladding Material

AGENCY: Nuclear Regulatory Commission.

ACTION: Exemption; issuance; correction.

SUMMARY: The U.S. Nuclear Regulatory Commission (NRC) is correcting a notice that was published in the Federal Register (FR) on August 3, 2016, regarding an exemption issued on July 27, 2016. This action is necessary to correct a typographical error in the SUMMARY section from “September 30, 2016,” to “September 30, 2015.”

DATES: The correction is effective August 22, 2016.

ADDRESSES: Please refer to Docket ID NRC-2016-0105 when contacting the NRC about the availability of information regarding this document. You may obtain publicly-available information related to this document using any of the following methods:

• Federal Rulemaking Web site: Go to http://www.regulations.gov and search for Docket ID: NRC-2016-0105. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Karen R. Cotton, Office of Nuclear Reactor Regulation, U.S. Nuclear Regulatory Commission, Washington, DC 20555-0001; telephone: 301-415-1438, email: Karen.Cotton@nrc.gov.

SUPPLEMENTARY INFORMATION: In the FR on August 3, 2016, in FR Doc. 2016-18357, on page 51218, the second column, first paragraph, fourth line, replace “2016” with “2015.”

Dated at Rockville, Maryland, this 16th day of August, 2016.
For the Nuclear Regulatory Commission.
Karen R. Cotton,
Project Manager, Plant Licensing Branch 2-1, Division of Operating Reactor Licensing, Office of Nuclear Reactor Regulation.

[FR Doc. 2016-19982 Filed 8-19-16; 8:45 am]

BILLING CODE 7590-01-P